DEPARTMENT OF COMMERCE

National Oceanic and Atmospheric Administration

[I.D. 072701G]

Marine Mammals; File No. 1012-1647

AGENCY: National Marine Fisheries Service (NMFS), National Oceanic and Atmospheric Administration (NOAA), Commerce.

ACTION: Receipt of application.

SUMMARY: Notice is hereby given that Robert B. Griffin, Ph.D., Center for Marine Mammal and Sea Turtle Research, Mote Marine Laboratory, 1600 Ken Thompson Parkway, Sarasota, FL 34236, has applied in due form for a permit to take Atlantic spotted dolphins (Stenella frontalis) and bottlenose dolphins (Tursiops truncatus) for purposes of scientific research over a five year period.

DATES: Written or telefaxed comments must be received on or before September 5, 2001.

ADDRESSES: The application and related documents are available for review upon written request or by appointment in the following office(s):

Permits and Documentation Division, Office of Protected Resources, NMFS, 1315 East-West Highway, Room 13705, Silver Spring, MD 20910; phone (301) 713-2289; fax (301) 713-0376; and

Southeast Region, NMFS, 9721 Executive Center Drive North, St. Petersburg, FL 33702-2432; phone (727) 570-5301; fax (727) 570-5320.

FOR FURTHER INFORMATION CONTACT: Trevor Spradlin or Lynne Barre, (301) 713-2289.

SUPPLEMENTARY INFORMATION: The subject permit is requested under the authority of the Marine Mammal Protection Act of 1972, as amended (MMPA; 16 U.S.C. 1361 et seq.) and the Regulations Governing the Taking and Importing of Marine Mammals (50 CFR part 216).

The applicant is requesting to take Atlantic spotted dolphins and bottlenose dolphins on the west Florida continental shelf, using the tools of radio-telemetry, biopsy sampling, photography, and passive acoustic recording. For Atlantic spotted dolphins, the proposed annual takes are: 50 for biopsy sampling, 5,000 for photo-identification, and 10 for suction cup telemetry tags. For bottlenose dolphins, the proposed annual takes are: 220 for biopsy sampling, 17,300 for photo-identification, and 10 for suction cup telemetry tags. The research objectives include: (1) study of the feasibility of using suction-cup radio-telemetry tags on the Atlantic spotted dolphin and bottlenose dolphin; (2) radio telemetry of these species to answer questions of movement and foraging patterns; (3) photography of these species for contributions to existing photo-ID catalogues maintained at Mote Marine Laboratory; (4) further study of anthropogenic contaminant loads in these species; and (5) contribute to the National Marine Fisheries Service stock analysis database. The research will be conducted in the Gulf of Mexico, offshore of the west coast of Florida between Tampa Bay and Charlotte Harbor, and near Panama City in Choctawhatchee Bay and St. Andrews Bay.

In compliance with the National Environmental Policy Act of 1969 (42 U.S.C. 4321 et seq.), an initial determination has been made that the activity proposed is categorically excluded from the requirement to prepare an environmental assessment or environmental impact statement.

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: July 30, 2001.
Ann D. Terbush,
Chief, Permits and Documentation Division, Office of Protected Resources, National Marine Fisheries Service.

[FR Doc. 01-19510 Filed 8-3-01; 8:45 am]

BILLING CODE 3510-22-S